DEPARTMENT OF COMMERCE

Foreign-Trade Zones Board

[S-132-2014]

Approval of Subzone Status, 5.11, Inc., Modesto and Lathrop, California

On November 6, 2014, the Executive Secretary of the Foreign-Trade Zones (FTZ) Board docketed an application submitted by the Port of Stockton, California, grantee of FTZ 231, requesting subzone status subject to the existing activation limit of FTZ 231, on behalf of 5.11, Inc., in Modesto and Lathrop, California.

The application was processed in accordance with the FTZ Act and Regulations, including notice in the Federal Register inviting public comment (79 FR 67413, 11/13/2014). The FTZ staff examiner reviewed the application and determined that it meets the criteria for approval. Pursuant to the authority delegated to the FTZ Board Executive Secretary (15 CFR Sec. 400.36(f)), the application to establish Subzone 231B is approved, subject to the FTZ Act and the Board's regulations, including Section 400.13, and further subject to FTZ 231's 2,000-acre activation limit.

Dated: December 23, 2014.
Andrew McGilvray,
Executive Secretary.

[FR Doc. 2014-30719 Filed 12-30-14; 8:45 am]

BILLING CODE 3510-DS-P